DEPARTMENT OF COMMERCE

National Oceanic and Atmospheric Administration

50 CFR Part 300

[Docket No. 210205-0014]

RIN 0648-BK27

Pacific Halibut Fisheries; Catch Sharing Plan

AGENCY: National Marine Fisheries Service (NMFS), National Oceanic and Atmospheric Administration (NOAA), Commerce.

ACTION: Proposed rule; request for comments.

SUMMARY: NMFS proposes to approve changes to the Pacific Halibut Catch Sharing Plan for the International Pacific Halibut Commission's regulatory Area 2A off of Washington, Oregon, and California. In addition, NMFS proposes to implement management measures governing the 2021 recreational fisheries that are not implemented through the International Pacific Halibut Commission. These measures include the recreational fishery seasons, allocations, and management measures for Area 2A. These actions are intended to conserve Pacific halibut and provide angler opportunity where available.

DATES: Comments on the proposed rule must be received on or before March 15, 2021.

ADDRESSES: Submit your comments, identified by NOAA-NMFS-2020-0157, by either of the following methods:

• Federal e-Rulemaking Portal: Go to www.regulations.gov/#!docketDetail;D=NOAA-NMFS-2020-0157, click the “Comment Now!” icon, complete the required fields, and enter or attach your comments.

• Mail: Submit written comments to Barry Thom, c/o Kathryn Blair, West Coast Region, NMFS, 1201 NE Lloyd Blvd., Suite 1100, Portland, OR 97232.

Instructions: NMFS may not consider comments if they are sent by any other method, to any other address or individual, or received after the comment period ends. All comments received are a part of the public record and NMFS will post them for public viewing on www.regulations.gov without change. All personal identifying information (e.g., name, address, etc.), confidential business information, or otherwise sensitive information submitted voluntarily by the sender is publicly accessible. NMFS will accept anonymous comments (enter “N/A” in the required fields if you wish to remain anonymous).

Docket: This rule is accessible via the internet at the Office of the Federal Register website at https://www.federalregister.gov. Background information and documents are available at the NMFS West Coast Region website at https://www.fisheries.noaa.gov/west-coast/sustainable-fisheries/fisheries-management-west-coast and at the Council's website at http://www.pcouncil.org. Other comments received may be accessed through Regulations.gov.

FOR FURTHER INFORMATION CONTACT: Kathryn Blair, phone: 503-231-6858, fax: 503-231-6893, or email: kathryn.blair@noaa.gov.

SUPPLEMENTARY INFORMATION:

Background

The Northern Pacific Halibut Act of 1982 (Halibut Act) gives the Secretary of Commerce (Secretary) responsibility for implementing the provisions of the Halibut Convention between the United States and Canada. 16 U.S.C. 773-773k. The Halibut Act requires that the Secretary adopt regulations to carry out the purposes and objectives of the Halibut Convention and Halibut Act. 16 U.S.C. 773(c). The Halibut Act also authorizes the regional fishery management councils having authority for a particular geographic area to develop regulations in addition to, but not in conflict with, regulations issued by the International Pacific Halibut Commission (IPHC) to govern the Pacific halibut catch in U.S. Convention waters (16 U.S.C. 773c(c)).

Since 1988, the Pacific Fishery Management Council (Council) has developed, and NMFS has approved, annual Catch Sharing Plans that allocate the IPHC regulatory Area 2A Pacific halibut catch limit between treaty Indian and non-Indian harvesters, and among non-Indian commercial and recreational (sport) fisheries. In 1995, the Council recommended, and NMFS approved, a long-term Area 2A Catch Sharing Plan (60 FR 14651; March 20, 1995). NMFS has been approving adjustments to the Area 2A Catch Sharing Plan based on Council recommendations each year to address the changing needs of these fisheries. While the full Catch Sharing Plan is not published in the Federal Register, it is made available on the Council and NMFS websites.

At its annual meeting January 25-29, 2021, the IPHC recommended an Area 2A catch limit. This catch limit is derived from the total constant exploitation yield (TCEY), which includes commercial discards and bycatch estimates calculated using a formula developed by the IPHC. As provided in the Halibut Act at 16 U.S.C. 773b, the Secretary of State, with the concurrence of the Secretary of Commerce, may accept or reject, on behalf of the United States, regulations recommended by the IPHC in accordance with the Convention. Following acceptance by the Secretary of State, the annual management measures promulgated by the IPHC are published in the Federal Register to provide notice of their immediate regulatory effectiveness and to inform persons subject to the regulations of their restrictions and requirements (50 CFR 300.62). The rule containing the 2020 IPHC regulations and management measures was published in the Federal Register on March 13, 2020 (85 FR 14586).

This rule proposes to approve the Council's recommended changes to the Catch Sharing Plan for IPHC regulatory Area 2A, which affect only the recreational fishery. In addition, this rule would implement 2021 recreational Pacific halibut fishery management measures, which include season opening and closing dates, retention of groundfish species, allowable gear, and opening closed areas that are set in NMFS regulations. These management measures were developed through the Council's public process and are detailed below.

Proposed Changes to the 2021 Area 2A Catch Sharing Plan

Each year at the Council's September meeting, members of the public have an opportunity to propose changes to the Catch Sharing Plan for consideration by the Council. At the September 2020 Council meeting, Washington Department of Fish and Wildlife (WDFW), Oregon Department of Fish and Wildlife (ODFW), and California Department of Fish and Wildlife (CDFW) proposed changes to the Catch Sharing Plan. The Council voted to solicit public input on most of the changes recommended by WDFW, ODFW, and CDFW. Input on these proposed changes was then gathered through public workshops subsequently held by WDFW and ODFW.

At its November 2020 meeting, the Council considered the input received through these public workshops on the changes to the Catch Sharing Plan proposed by WDFW, ODFW, and CDFW, along with other public input provided at the 2020 September and November Council meetings, and made its final recommendations for modifications to the Catch Sharing Plan to NMFS. NMFS proposes to approve all of the Council's recommended changes to the Catch Sharing Plan as discussed below.

1. In section 6.9.3(h) of the Catch Sharing Plan, the Council recommended removing prohibition on fishing within two Yelloweye Rockfish Conservation Areas (YRCAs) to be consistent with West Coast groundfish regulations. The 2021-2022 groundfish harvest specifications final rule (85 FR 79880; December 11, 2020) included a modification to regulations at 50 CFR 660.360(c)(1)(i)(B) and (C) to allow for recreational fishing for groundfish and halibut within the South Coast Recreational YRCA and the Westport Offshore Recreational YRCA. Consistent with the groundfish regulations, this Catch Sharing Plan change removes the prohibition on recreational groundfish and halibut fishing in these two YRCAs and removes the description of the YCRAs.

2. In section 6.10(g) of the Catch Sharing Plan, the Council recommended allowing anglers fishing for Pacific halibut in the Columbia River subarea in Washington to retain certain midwater rockfish species, specifically yellowtail, widow, canary, redstriped, greenstriped, silvergray, chilipepper, bocaccio, and blue/deacon rockfish, in addition to the species currently allowed for retention. This change would increase angler opportunity by permitting retention of more groundfish species than were previously allowed in regulation.

3. In section 6.11.1(g) and 6.11.2(g) of the Catch Sharing Plan, the Council recommended allowing anglers in Oregon to use long-leader fishing gear to retain certain groundfish species on the same fishing trip in which they also participate in the all-depth halibut fishery. This change would increase angler opportunity by permitting retention of more species than were previously allowed in regulation.

4. In section 6.12(d) of the Catch Sharing Plan, the Council recommended changing the season end date on the California Coast from October 31 to November 15. In 2019, the California recreational fishery was open May 1 through October 31, and attained around 17,000 pounds of the 39,000 pound quota. This change provides flexibility to extend the season by two weeks to allow for additional angler opportunity.

Additional discussion of these changes is included in the materials submitted to the Council at its September and November meetings, available at https://www.pcouncil.org/council-meetings/previous-meetings/. A version of the Catch Sharing Plan including these changes can be found at https://www.pcouncil.org/managed_fishery/pacific-halibut/.

Proposed 2021 Recreational Fishery Management Measures

Following the Council's recommendations in the Catch Sharing Plan, NMFS also proposes to implement recreational fishery management measures, including season dates for the 2021 fishery. The Catch Sharing Plan includes a framework for setting days open for fishing by subarea, and each state submits final recommended season dates annually to NMFS during the proposed rule comment period. This proposed rule contains dates for the recreational (though referred to as “sport” in IPHC documents, “recreational” will be used in this rule) fisheries based on the 2021 Catch Sharing Plan as recommended by the Council. The season dates preferred for Washington, following input from the public, are proposed here. The proposed season dates for Oregon are based on the Catch Sharing Plan framework and season dates from 2020. The proposed season dates for California are the start and end dates in the 2021 Catch Sharing Plan, including the revised season end date of November 15. The final rule will provide season dates based on public comment, including comments from Oregon and California after each state has concluded its public meetings gathering input on season dates.

Separate from this rule and described above, annual management measures promulgated by the IPHC are published each year through a final rule under NMFS authority to implement the Halibut Convention (50 CFR 300.62). For the 2020 fishing season, the final rule for the IPHC regulations was published on March 13, 2020 (85 FR 14586), and the final rule for Area 2A recreational fisheries was published on May 1, 2020 (85 FR 25317). At the 2021 IPHC meeting, the IPHC approved the 2021 halibut regulations. NMFS plans to publish those regulations prior to the start of the 2021 halibut fishery if approved by the Secretary of State with concurrence by the Secretary of Commerce.

NMFS proposes the following Area 2A recreational fishery management measures consistent with the Council's Catch Sharing Plan. After the opportunity for public comment, NMFS will publish a final rule approving the Catch Sharing Plan and promulgating the annual management measures for the Area 2A recreational fishery, as required by implementing regulations at 50 CFR 300.63(b)(1). The subarea allocations in this proposed rule are based on the 2021 IPHC halibut regulations approved by the IPHC and the allocation formula in the Council's Catch Sharing Plan.

2021 Annual Recreational Management Measures

The recreational fishing subareas, subquotas, fishing dates, and daily bag limits are as follows, except as modified under the inseason actions consistent with 50 CFR 300.63(c). All recreational fishing in Area 2A is managed on a “port of landing” basis, whereby any halibut landed into a port counts toward the quota for the area in which that port is located, and the regulations governing the area of landing apply, regardless of the specific area of catch.

Washington Puget Sound and the U.S. Convention Waters in the Strait of Juan de Fuca

The quota for the area in Puget Sound and the U.S. waters in the Strait of Juan de Fuca, east of a line extending from 48°17.30′ N lat., 124°23.70′ W long. north to 48°24.10′ N lat., 124°23.70′ W long., is 78,291 lb (35.5 metric tons (mt)).

(a) The fishing seasons are:

(i) For the area in Puget Sound and the U.S. waters in the Strait of Juan de Fuca, east of a line at approximately 123°49.60′ W long., fishing is open April 22-24, April 29-May 1; May 6-8, 13-15, 20-22, 28-30; June 3-5, 10-12, 17-19, and 24-26, or until there is not sufficient quota for another full day of fishing and the area is closed by the IPHC. Any closure will be announced on the NMFS hotline at (206) 526-6667 or 800-662-9825.

(ii) For the area in U.S. waters in the Strait of Juan de Fuca, approximately between 124°23.70′ W long. and 123°49.60′ W long., fishing is open May 6, 8, 13, 15, 20, 22, 28-30; June 3-5, 10-12, 17-19, 24-26, or until there is not sufficient quota for another full day of fishing and the area is closed by the IPHC. Any closure will be announced on the NMFS hotline at (206) 526-6667 or 800-662-9825.

(b) The daily bag limit is one halibut of any size per day per person.

Washington North Coast Subarea

The quota for landings into ports in the area off the north Washington coast, west of a line at approximately 124°23.70′ W long. and north of the Queets River (47°31.70′ N lat.), is 128,928 lb (58.5 mt).

(a) The fishing seasons are:

(i) Fishing is open May 6, 8, 13, 15, 20, 22, 28, 30; June 3, 5, 10, 12, 17, 19, 24, and 26, or until there is not sufficient quota for another full day of fishing and the area is closed by the IPHC. Any closure will be announced on the NMFS hotline at (206) 526-6667 or 800-662-9825.

(b) The daily bag limit is one halibut of any size per day per person.

(c) Recreational fishing for groundfish and halibut is prohibited within the North Coast Recreational Yelloweye Rockfish Conservation Area (YRCA). It is unlawful for recreational fishing vessels to take and retain, possess, or land halibut taken with recreational gear within the North Coast Recreational YRCA. A vessel fishing with recreational gear in the North Coast Recreational YRCA may not be in possession of any halibut. Recreational vessels may transit through the North Coast Recreational YRCA with or without halibut on board. The North Coast Recreational YRCA is a C-shaped area off the northern Washington coast intended to protect yelloweye rockfish. The North Coast Recreational YRCA is defined in groundfish regulations at 50 CFR 660.70(b).

Washington South Coast Subarea

The quota for landings into ports in the area between the Queets River, WA (47°31.70′ N lat.), and Leadbetter Point, WA (46°38.17′ N lat.), is 63,636 lb (28.9 mt).

(a) This subarea is divided between the all-depth fishery (the Washington South coast primary fishery), and the incidental nearshore fishery in the area from 47°31.70′ N lat. south to 46°58.00′ N lat. and east of a boundary line approximating the 30-fm (55-m) depth contour. This area (the Washington South coast, northern nearshore area) is defined by straight lines connecting all of the following points in the order stated as described by the following coordinates:

(1) 47°31.70′ N lat., 124°37.03′ W long.;

(2) 47°25.67′ N lat., 124°34.79′ W long.;

(3) 47°12.82′ N lat., 124°29.12′ W long.;

(4) 46°58.00′ N lat., 124°24.24′ W long.

The primary fishery season dates are May 6, 9, 13, 16, 20, 23, 27; June 17, 20, 24, 27, or until there is not sufficient quota for another full day of fishing and the area is closed by the IPHC. Any closure will be announced on the NMFS hotline at (206) 526-6667 or 800-662-9825. If sufficient quota remains, the fishing season in the nearshore area commences the Saturday subsequent to the closure of the primary fishery and continues seven days per week until 63,636 lb (28.9 mt) is projected to be taken by the two fisheries combined and the fishery is closed by the IPHC or on September 30, whichever is earlier. If the fishery is closed prior to September 30, and there is insufficient quota remaining to reopen the Washington South coast, northern nearshore area for another fishing day, then any remaining quota may be transferred in-season to another Washington coastal subarea by NMFS.

(b) The daily bag limit is one halibut of any size per day per person.

(c) Seaward of the boundary line approximating the 30-fm (55-m) depth contour and during days open to the primary fishery, lingcod may be taken, retained and possessed when allowed by groundfish regulations at 50 CFR 660.360(c).

(d) Recreational fishing for groundfish and halibut is allowed within the South Coast Recreational YRCA and Westport Offshore Recreational YRCA. The South Coast Recreational YRCA is defined at 50 CFR 660.70(e). The Westport Offshore Recreational YRCA is defined at 50 CFR 660.70(f).

Columbia River Subarea

The quota for landings into ports in the area between Leadbetter Point, WA (46°38.17′ N lat.), and Cape Falcon, OR (45°46.00′ N lat.), is 18,662 lb (8.5 mt).

(a) This subarea is divided into an all-depth fishery and a nearshore fishery. The nearshore fishery is allocated 500 lb (0.23 mt) of the subarea allocation. The nearshore fishery extends from Leadbetter Point (46°38.17′ N lat., 124°15.88′ W long.) to the Columbia River (46°16.00′ N lat., 124°15.88′ W long.) by connecting the following coordinates in Washington: 46°38.17′ N lat., 124°15.88′ W long., 46°16.00′ N lat., 124°15.88′ W long., and connecting to the boundary line approximating the 40-fm (73-m) depth contour in Oregon. The nearshore fishery opens May 10, and continues on Monday, Tuesday, and Wednesday each week until the nearshore allocation is taken, or on September 30, whichever is earlier. The all-depth fishing season is open May 6, 9, 13, 16, 20, 23, 27; June 3, 6, 10, 13, 17, 20, 24, 27, or until there is not sufficient quota for another full day of fishing and the area is closed by the IPHC, or on September 30, whichever is earlier. Any closure will be announced on the NMFS hotline at (206) 526-6667 or 800-662-9825. Subsequent to this closure, if there is insufficient quota remaining in the Columbia River subarea for another fishing day, then any remaining quota may be transferred inseason to another Washington and/or Oregon subarea by NMFS. Any remaining quota would be transferred to each state in proportion to its contribution.

(b) The daily bag limit is one halibut of any size per day per person.

(c) Pacific Coast groundfish may not be taken and retained, possessed or landed when halibut are on board the vessel, except sablefish, Pacific cod, flatfish species, yellowtail rockfish, widow rockfish, canary rockfish, redstriped rockfish, greenstriped rockfish, silvergray rockfish, chilipepper, bocaccio, blue/deacon rockfish, and lingcod caught north of the Washington-Oregon border (46°16.00′ N lat.) may be retained when allowed by Pacific Coast groundfish regulations, during days open to the all-depth Pacific halibut fishery. Long-leader gear (as defined at 50 CFR 660.351) may be used to retain groundfish during the all-depth Pacific halibut fishery south of the Washington-Oregon border, when allowed by Pacific Coast groundfish regulations.

(d) Taking, retaining, possessing, or landing halibut on groundfish trips is allowed in the nearshore area on days not open to all-depth Pacific halibut fisheries.

Oregon Central Coast Subarea

The quota for landings into ports in the area off Oregon between Cape Falcon (45°46.00′ N lat.) and Humbug Mountain (42°40.50′ N lat.), is 273,403 lb (124 mt).

(a) The fishing seasons are:

(i) The first season (the “inside 40-fm” fishery) commences May 1, and continues 7 days a week, in the area shoreward of a boundary line approximating the 40-fm (73-m) depth contour, or until the sub-quota for the central Oregon “inside 40-fm” fishery of 32,808 lb (14.9 mt), or any inseason revised subquota is estimated to have been taken and the season is closed by the IPHC, or on October 31, whichever is earlier. The boundary line approximating the 40-fm (73-m) depth contour between 45°46.00′ N lat. and 42°40.50′ N lat. is defined at 50 CFR 660.71(o).

(ii) The second season (spring season), which is for the “all-depth” fishery, is open May 13-15, 20-22, 27-29; June 3-5, and 10-12. The allocation to the all-depth fishery is 172,244 lb (78.1 mt). If sufficient unharvested quota remains for additional fishing days, the season will re-open June 17-19; July 1-3 and 8-10. Notice of the re-opening will be announced on the NMFS hotline (206) 526-6667 or (800) 662-9825.

(iii) The third season (summer season), which is for the “all-depth” fishery, will be open August 6-7, 19-21; September 2-4; 16-18, September 30-October 2; October 14-16, 28-30; and will continue until the combined spring season and summer season quotas in the area between Cape Falcon and Humbug Mountain, OR, are estimated to have been taken and the area is closed by the IPHC. NMFS will announce on the NMFS hotline (206) 526-6667 or (800) 662-9825 in July whether the fishery will re-open for the summer season in August. Additional fishing days may be opened if sufficient quota remains after the last day of the first scheduled open period. If, after this date, an amount greater than or equal to 60,000 lb (27.2 mt) remains in the combined all-depth and inside 40-fm (73-m) quota, the fishery may re-open every Thursday, Friday and Saturday, beginning August 5, 6, and 7, and ending when there is insufficient quota remaining, whichever is earlier. If, after September 7, an amount greater than or equal to 30,000 lb (13.6 mt) remains in the combined all-depth and inside 40-fm (73-m) quota, and the fishery is not already open every Thursday, Friday and Saturday, the fishery may re-open every Thursday, Friday and Saturday, beginning September 9, 10, and 11, and ending October 31. After September 7, the bag limit may be increased to two fish of any size per person, per day. NMFS will announce on the NMFS hotline (206) 526-6667 or (800) 662-9825 whether the summer all-depth fishery will be open on such additional fishing days, what days the fishery will be open, and what the bag limit is.

(b) The daily bag limit is one halibut of any size per day per person, unless otherwise specified. NMFS will announce on the NMFS hotline (206) 526-6667 or (800) 662-9825 any bag limit changes.

(c) During days open to all-depth halibut fishing when the groundfish fishery is restricted by depth, when halibut are on board the vessel, no groundfish, except sablefish, Pacific cod, and other species of flatfish (sole, flounder, sanddab), may be taken and retained, possessed or landed, except with long-leader gear (as defined at § 660.351), when allowed by groundfish regulations. During days open to all-depth halibut fishing when the groundfish fishery is open to all depths, any groundfish species permitted under the groundfish regulations may be retained, possessed or landed if halibut are on board the vessel. During days open to nearshore halibut fishing, flatfish species may be taken and retained seaward of the seasonal groundfish depth restrictions if halibut are on board the vessel.

(d) When the all-depth halibut fishery is closed and halibut fishing is permitted only shoreward of a boundary line approximating the 40-fm (73-m) depth contour, halibut possession and retention by vessels operating seaward of a boundary line approximating the 40-fm (73-m) depth contour is prohibited.

(e) Recreational fishing for groundfish and halibut is prohibited within the Stonewall Bank YRCA. It is unlawful for recreational fishing vessels to take and retain, possess, or land halibut taken with recreational gear within the Stonewall Bank YRCA. A vessel fishing in the Stonewall Bank YRCA may not possess any halibut. Recreational vessels may transit through the Stonewall Bank YRCA with or without halibut on board. The Stonewall Bank YRCA is an area off central Oregon, near Stonewall Bank, intended to protect yelloweye rockfish. The Stonewall Bank YRCA is defined at 50 CFR 660.70(g).

Southern Oregon Subarea

The quota for landings into ports in the area south of Humbug Mountain, OR (42°40.50′ N lat.) to the Oregon/California Border (42°00.00′ N lat.) is 8,000 lb (3.6 mt).

(a) The fishing season commences on May 1, and continues 7 days per week until the subquota is taken, or October 31, whichever is earlier.

(b) The daily bag limit is one halibut per person with no size limit.

(c) During days open to the Pacific halibut fishery, when halibut are on board the vessel, no groundfish except sablefish, Pacific cod, and other species of flatfish (sole, flounder, sanddab), may be taken and retained, possessed or landed, except with long-leader gear (as defined at § 660.351) when allowed by groundfish regulations.

California Coast Subarea

The quota for landings into ports south of the Oregon/California Border (42°00.00′ N lat.) and along the California coast is 39,260 lb (17.8 mt).

(a) The fishing season will be open May 1 through November 15, or until the subarea quota is estimated to have been taken and the season is closed by the IPHC, whichever is earlier. NMFS will announce any closure by the IPHC on the NMFS hotline (206) 526-6667 or (800) 662-9825.

(b) The daily bag limit is one halibut of any size per day per person.

Classification

Regulations governing the U.S. fisheries for Pacific halibut are developed by the International Pacific Halibut Commission (IPHC), the Pacific Fishery Management Council, the North Pacific Fishery Management Council (Council), and the Secretary of Commerce. Section 5 of the Halibut Act (16 U.S.C. 773c) allows the Regional Council having authority for a particular geographical area to develop regulations governing the allocation and catch of halibut in U.S. Convention waters as long as those regulations do not conflict with IPHC regulations. The proposed action is consistent with the Council's authority to allocate halibut catches among fishery participants in the waters in and off Washington, Oregon, and California.

This proposed rule has been determined to be not significant for purposes of Executive Order 12866.

The Chief Counsel for Regulation of the Department of Commerce certified to the Chief Counsel for Advocacy of the Small Business Administration that this proposed rule, if adopted, would not have a significant economic impact on a substantial number of small entities, for the following reasons:

For Regulatory Flexibility Act (RFA) purposes only, NMFS has established a small business size standard for businesses, including their affiliates. Previous analyses determined that charterboats are small businesses (see 77 FR 5477 (February 3, 2012) and 76 FR 2876 (January 18, 2011)). Charter fishing operations are classified under NAICS code, 487210, with a corresponding Small Business Association size standard of $7.5 million in annual receipts. No commercial fishing entities are directly affected by this rule.

This rule would revise the recreational Pacific halibut fishery management measures, such as season dates and catch limits that are set in NMFS regulations. This proposed rule would open the recreational fishery with 2021 season dates and subarea allocations impacting charter boats, anglers, and businesses relying on recreational fishing across all of Area 2A. This rule also proposes minor changes, including groundfish species retention, allowable fishing gear, and opening closed areas, to the recreational halibut fishery, impacting participants in the Washington, Oregon, and California recreational subareas. The proposed revisions were uncontroversial throughout the Council's public process.

In 2020, the IPHC issued 86 licenses to the charterboat fleet for Area 2A. Analysis of the most recent data available on charterboat activity indicates that 60 percent of the IPHC charterboat license holders (around 50 vessels) participate in the Pacific halibut recreational fishery and may be affected by these regulations as those vessels operate in Area 2A. Private vessels used for recreational fishing are not businesses and are therefore not subject to the RFA.

The major impact of halibut management on small entities will result from the IPHC catch limits, which are determined independently from this proposed action. This proposed action would implement management measures including season dates and allocations for the recreational fishery, and would make minor changes to the Catch Sharing Plan to provide increased recreational opportunities under the allocations that result from the Area 2A catch limit. The proposed changes to the Catch Sharing Plan in this proposed action are minor, with minimal economic effects. Profitability is more heavily influenced by the catch limit decision made by the IPHC, with subarea quotas determined based on the Catch Sharing Plan framework and the allocation formulae recommended by the Council. Therefore, the proposed rule is unlikely to affect overall participation in the recreational fisheries or to change the profitability of the recreational fishery. Additionally, there are no large entities involved in the halibut fisheries off of the West Coast. Because this action will only impact recreational charter vessels, which are small entities, these revisions will not have a disproportionately negative effect on small entities versus large entities.

For the reasons described above, NMFS concludes that the proposed action, if adopted, will not have a significant economic impact on a substantial number of small entities. As a result, an initial regulatory flexibility analysis is not required, and none has been prepared.

This proposed rule contains no information collection requirements under the Paperwork Reduction Act of 1995.

Dated: February 8, 2021.
Samuel D. Rauch, III,
Deputy Assistant Administrator for Regulatory Programs, National Marine Fisheries Service.

[FR Doc. 2021-02831 Filed 2-11-21; 8:45 am]

BILLING CODE 3510-22-P